DEPARTMENT OF TRANSPORTATION

National Highway Traffic Safety Administration

[Docket No. NHTSA-2021-0034; Notice 2]

Toyo Tire Holdings of Americas Inc., Grant of Petition for Decision of Inconsequential Noncompliance

AGENCY: National Highway Traffic Safety Administration (NHTSA), Department of Transportation (DOT).

ACTION: Grant of petition.

SUMMARY: Toyo Tire Holdings of Americas, Inc., (Toyo) has determined that certain Open Country R/T light truck tires, do not fully comply with Federal Motor Vehicle Safety Standard (FMVSS) No. 119, New Pneumatic Tires for Motor Vehicles with a GVWR of More Than 4,536 Kilograms (10,000 Pounds) and Motorcycles. Toyo filed a noncompliance report dated March 15, 2021, and later amended it on April 2, 2021. Toyo simultaneously petitioned NHTSA on April 2, 2021, for a decision that the subject noncompliance is inconsequential as it relates to motor vehicle safety. This notice announces the grant of Toyo's petition.

FOR FURTHER INFORMATION CONTACT: Jayton Lindley, General Engineer, NHTSA, Office of Vehicle Safety Compliance, (325) 655-0547.

SUPPLEMENTARY INFORMATION:

I. Overview

Toyo has determined that certain Toyo Open Country R/T light truck tires, do not fully comply with paragraph S6.5(j) of FMVSS No. 119, New Pneumatic Tires for Motor Vehicles with a GVWR of More Than 4,536 Kilograms (10,000 Pounds) and Motorcycles (49 CFR 571.119). Toyo filed a noncompliance report dated March 15, 2021, and later amended it on April 2, 2021, pursuant to 49 CFR part 573, Defect and Noncompliance Responsibility and Reports. Toyo simultaneously petitioned NHTSA on April 2, 2021, for an exemption from the notification and remedy requirements of 49 U.S.C. Chapter 301 on the basis that this noncompliance is inconsequential as it relates to motor vehicle safety, pursuant to 49 U.S.C. 30118(d) and 30120(h) and 49 CFR part 556, Exemption for Inconsequential Defect or Noncompliance.

Notice of receipt of Toyo's petition was published with a 30-day public comment period, on May 19, 2022, in the Federal Register (87 FR 30556). No comments were received. To view the petition and all supporting documents log onto the Federal Docket Management System (FDMS) website at https://www.regulations.gov/. Then follow the online search instructions to locate docket number “NHTSA-2021-0034.”

II. Tires Involved

Approximately 518 Toyo Open Country R/T light truck tires, size 35X12.50R20LT 125Q, manufactured between January 29, 2021, and March 8, 2021, are potentially involved.

III. Noncompliance

Toyo explains that the noncompliance was due to a mold error in which the sidewall with the partial TIN incorrectly states the load range as required by paragraph S6.5(j) of FMVSS No. 119. Specifically, the tires were marked: “LOAD RANGE E MAX.LOAD 1450 kg (3195 LBS) AT 450 kPa (65 PSI) COLD” when they should have been marked: “LOAD RANGE F MAX.LOAD 1650 kg (3640 LBS) AT 550 kPa (80 PSI) COLD.”

IV. Rule Requirements

Paragraph S6.5(j) of FMVSS No. 119 includes the requirements relevant to this petition. The subject tires are required to be marked on each sidewall with the letter designating the tire load range.

V. Summary of Toyo's Petition

The following views and arguments presented in this section, “V. Summary of Toyo's Petition,” are the views and arguments provided by Toyo. They do not reflect the views of the Agency. Toyo describes the subject noncompliance and contends that the noncompliance is inconsequential as it relates to motor vehicle safety.

In support of its petition, Toyo submitted the following reasoning:

Toyo explains that the noncompliance occurred as production transitioned from producing the load range `E' tire to production of the load range `F' tire.

Toyo states that “the affected tire mold was immediately corrected after this issue was discovered and all future production will have the correct load range letter shown on the non-serial sidewall.”

Toyo explains that “the 35X12.50R20LT tire size, Load Range E tires have a maximum load carrying capacity of 1,450 kg (3,195 lbs.) at 450 kPa (65 PSI); Load Range F tires have a maximum load carrying capacity of 1,650 kg (3,640 lbs.) at 550 kPa (80 PSI). Therefore, Toyo believes that in the event that “a consumer were to rely on the incorrect load range designation on the non-serial sidewall, there would be no associated risk of overloading.”

Toyo says that NHTSA has granted prior inconsequentiality petitions for noncompliances that are similar to the one described in the subject petition and cited sections from the following notices granting those petitions:

• Guizhou Tyre Corporation; Grant of Petition for Decision of Inconsequential Noncompliance. 78 FR 12828, February 25, 2013.

• Yokohama Tire Corporation, Grant of Petition for Decision of Inconsequential Noncompliance. 84 FR. 64403, November 21, 2019.

• Tireco, Inc., Ruling on Petition for Decision of Inconsequential Noncompliance. 81 FR 58550, August 25, 2016.

Toyo says that the subject tires “meet all other performance and regulatory requirements of FMVSS No. 119.” Furthermore, Toyo says that it “has not received any complaints, claims, or warranty adjustments related to this noncompliance.”

Toyo concludes that the subject noncompliance is inconsequential as it relates to motor vehicle safety as these tires have a higher load carrying capacity than the incorrect marking indicates, therefore, the marking will not cause an operator to overload the tires. Thus, Toyo believes that its petition to be exempted from providing notification of the noncompliance, as required by 49 U.S.C. 30118, and a remedy for the noncompliance, as required by 49 U.S.C. 30120, should be granted.

VI. NHTSA's Analysis

In determining inconsequentiality of a noncompliance, NHTSA focuses on the safety risk to individuals who experience the type of event against which a recall would otherwise protect.¹ In general, NHTSA does not consider the absence of complaints or injuries when determining if a noncompliance is inconsequential to safety. The absence of complaints does not mean vehicle occupants have not experienced a safety issue, nor does it mean that there will not be safety issues in the future.² Further, because each inconsequential noncompliance petition must be evaluated on its own facts and determinations are highly fact-dependent, NHTSA does not consider prior determinations as binding precedent. Petitioners are reminded that they have the burden of persuading NHTSA that the noncompliance is inconsequential to safety.

¹ See Gen. Motors, LLC; Grant of Petition for Decision of Inconsequential Noncompliance, 78 FR 35355 (June 12, 2013) (finding noncompliance had no effect on occupant safety because it had no effect on the proper operation of the occupant classification system and the correct deployment of an air bag); Osram Sylvania Prods. Inc.; Grant of Petition for Decision of Inconsequential Noncompliance, 78 FR 46000 (July 30, 2013) (finding occupant using noncompliant light source would not be exposed to significantly greater risk than occupant using similar compliant light source).

² See Morgan 3 Wheeler Limited; Denial of Petition for Decision of Inconsequential Noncompliance, 81 FR 21663, 21666 (Apr. 12, 2016); see also United States v. Gen. Motors Corp., 565 F.2d 754, 759 (D.C. Cir. 1977) (finding defect poses an unreasonable risk when it “results in hazards as potentially dangerous as sudden engine fire, and where there is no dispute that at least some such hazards, in this case fires, can definitely be expected to occur in the future”).

NHTSA has evaluated the merits of the petition submitted by Toyo and is granting Toyo's request for relief from notification and remedy of the affected tires based on the following.

1. Based on a review of Toyo's submission, the agency has no basis to believe that the subject tires do not meet all performance and marking requirements of FMVSS No. 119 with the exception of the incorrect load markings.

2. NHTSA agrees that the incorrect marking will not cause the operator to overload the tires because the marked load carrying capacity is lower than the actual load carrying capacity of the tire.

VII. NHTSA's Decision

In consideration of the foregoing, NHTSA finds that Toyo has met its burden of persuasion that the subject FMVSS No. 119 noncompliance in the affected tires is inconsequential to motor vehicle safety. Accordingly, Toyo's petition is hereby granted, and Toyo is consequently exempted from the obligation of providing notification of, and a free remedy for, that noncompliance under 49 U.S.C. 30118 and 30120.

NHTSA notes that the statutory provisions (49 U.S.C. 30118(d) and 30120(h)) that permit manufacturers to file petitions for a determination of inconsequentiality allow NHTSA to exempt manufacturers only from the duties found in sections 30118 and 30120, respectively, to notify owners, purchasers, and dealers of a defect or noncompliance and to remedy the defect or noncompliance. Therefore, this decision only applies to the subject tires that Toyo no longer controlled at the time it determined that the noncompliance existed. However, the granting of this petition does not relieve tire distributors and dealers of the prohibitions on the sale, offer for sale, or introduction or delivery for introduction into interstate commerce of the noncompliant tires under their control after Toyo notified them that the subject noncompliance existed.

(Authority: 49 U.S.C. 30118, 30120: delegations of authority at 49 CFR 1.95 and 501.8)

Otto G. Matheke III,
Director, Office of Vehicle Safety Compliance.

[FR Doc. 2024-26539 Filed 11-14-24; 8:45 am]

BILLING CODE 4910-59-P